DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 9, 2006.

Interested persons are invited to submit written comments regarding the subject matter of the investigations to the Director, Division of Trade Adjustment Assistance, at the address shown below, not later than January 9, 2006.

The petitions filed in this case are available for inspection at the Office of the Director, Division of Trade Adjustment Assistance, Employment and Training Administration, U.S. Department of Labor, Room C-5311, 200 Constitution Avenue, NW., Washington, DC 20210.

Signed at Washington, DC, this 20th day of December 2005.
Erica R. Cantor,
Director, Division of Trade Adjustment Assistance.

Appendix.—TAA Petitions Instituted Between 12/5/05 and 12/9/05
TA-W | Subject firm (Petitioners) | Location | Date of institution | Date of petition
58453 | Leggett and Platt (Wkrs) | Cedar City, UT | 12/05/05 | 11/30/05
58454 | Metso Automation (State) | Shrewsbury, MA | 12/05/05 | 12/02/05
58455 | Sturgis Foundry Corp. (Wkrs) | Sturgis, MI | 12/05/05 | 11/22/05
58456 | WestPoint Home (Comp) | Valley, AL | 12/05/05 | 12/02/05
58457 | Sonoco Products Company (Comp) | Charlotte, NC | 12/05/05 | 12/02/05
58458 | Hitchcock Chair Company (Comp) | New Hartford, CT | 12/05/05 | 12/02/05
58459 | SJP Corp. (Comp) | Rutherford, NJ | 12/05/05 | 11/17/05
58460 | Glenoit Fabrics (Comp) | Tarboro, NC | 12/05/05 | 12/05/05
58461 | Jaderloon Co., Inc. (Comp) | Burleson, TX | 12/06/05 | 11/28/05
58462 | Key Plastics (Wkrs) | Hartford City, IN | 12/06/05 | 12/02/05
58463 | Nexus Custom Electronics Corp. (Comp) | Woburn, MA | 12/06/05 | 11/30/05
58464 | South-Eastern Fabrics Corp. (Comp) | Conover, NC | 12/06/05 | 11/30/05
58465 | JB Woven Labels (USA), Inc. (Comp) | San Francisco, CA | 12/06/05 | 12/04/05
58466 | Royal Indemnity Co. (Wkrs) | Charlotte, NC | 12/06/05 | 11/21/05
58467 | Scottsburg Plastics, Inc. (Comp) | Scottsburg, IN | 12/06/05 | 12/06/05
58468 | Candor Hosiery Mills, Inc. (Comp) | Robbins, NC | 12/06/05 | 12/05/05
58469 | Rockford Corporation (Wkrs) | Walker, MI | 12/06/05 | 11/29/05
58470 | Great Lakes Industry, Inc. (Comp) | Jackson, MI | 12/06/05 | 11/28/05
58471 | Columbia Gas of Ohio (Comp) | Lorain, OH | 12/07/05 | 12/05/05
58472 | Visteon Systems, LLC (Comp) | Bedford, IN | 12/07/05 | 11/30/05
58473 | National Textiles (Wkrs) | China Grove, NC | 12/07/05 | 11/28/05
58474 | IBM Global Services (Wkrs) | Oakbrook, IL | 12/07/05 | 11/28/05
58475 | Pendleton Woolen Mills, Inc. (Comp) | Portland, OR | 12/07/05 | 11/16/05
58475A | Pendleton Woolen Mills, Inc. (Comp) | Milwaukie, OR | 12/07/05 | 11/16/05
58475C | Pendleton Woolen Mills, Inc. (Comp) | Washougal, WA | 12/07/05 | 11/16/05
58475D | Pendleton Woolen Mills, Inc. (Comp) | Pendleton, OR | 12/07/05 | 11/16/05
58475B | Pendleton Woolen Mills, Inc. (Comp) | Bellevue, NE | 12/07/05 | 11/16/05
58476 | Orban CRL (State) | San Leandro, CA | 12/07/05 | 11/18/05
58477 | Dolce, Inc. (State) | Los Angeles, CA | 12/07/05 | 11/29/05
58478 | Rich Products Manufacturing Corp. (BCU) | Winchester, VA | 12/07/05 | 12/01/05
58479 | FYC Apparel Donna Ricco (Wkrs) | East Haven, CT | 12/07/05 | 12/01/05
58480 | LeSportsac, Inc. (Comp) | Stearns, KY | 12/07/05 | 11/30/05
58481 | Collins and Aikman (Comp) | El Paso, TX | 12/07/05 | 12/07/05
58482 | Dan River Inc. (Comp) | Morven, NC | 12/08/05 | 12/08/05
58483 | Reed and Barton Silversmiths (RWDSU) | Taunton, MA | 12/08/05 | 12/07/05
58484 | Big River Zinc Corporation (USW) | Sauget, IL | 12/08/05 | 12/07/05
58485 | Rawlings Sporting Goods (Wkrs) | Licking, MO | 12/08/05 | 12/05/05
58486 | Hewlett Packard () | Omaha, NE | 12/08/05 | 12/06/05
58487 | US Airways (CWA) | Pittsburgh, PA | 12/09/05 | 12/05/05
58488 | River City Metal Products (Comp) | Keokuk, IA | 12/09/05 | 12/05/05
58489 | Tricon Industries, Inc. (Wkrs) | Downers Grove, IL | 12/09/05 | 09/13/05
58490 | Greeneville Casting, Inc. (Comp) | Greeneville, TN | 12/09/05 | 12/08/05

[FR Doc. E5-7956 Filed 12-27-05; 8:45 am]

BILLING CODE 4510-30-P